DEPARTMENT OF HOMELAND SECURITY

Office of the Secretary

[Docket No. DHS-2016-0086]

DHS Data Privacy and Integrity Advisory Committee

AGENCY: Privacy Office, DHS.

ACTION: Notice; correction.

SUMMARY: The notice of the meeting of the DHS Data Privacy and Integrity Advisory Committee published in the Federal Register of November 1, 2016, 81 FR 73835 contained an incorrect meeting date. The correct date is Monday, December 5, 2016.

DATES: Effective November 7, 2016.

FOR FURTHER INFORMATION CONTACT: Sandra Taylor, Designated Federal Officer, DHS Data Privacy and Integrity Advisory Committee, Department of Homeland Security, 245 Murray Lane SW., Mail Stop 0655, Washington, DC 20528, by telephone (202) 343-1717, by fax (202) 343-4010, or by email to PrivacyCommittee@hq.dhs.gov.

SUPPLEMENTARY INFORMATION: The DHS Data Privacy and Integrity Advisory Committee published a meeting notice in the Federal Register of November 1, 2016, at 81 FR 75835. In document number 2016-26275, make the following correction to the dates in the following sections. On page 81 FR 75835 in the first column, the SUMMARY section should read “The DHS Data Privacy and Integrity Advisory Committee will meet on Monday, December 5, 2016. In the DATES section, also in the first column, the text should read, The DHS Data Privacy and Integrity Advisory Committee will meet on Monday, December 5, 2016, from 9:00 a.m. to 12:30 p.m.

Dated: November 1, 2016.
Jonathan R. Cantor,
Acting Chief Privacy Officer, Department of Homeland Security.

[FR Doc. 2016-26765 Filed 11-4-16; 8:45 am]

BILLING CODE 9110-9L-P